COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities, and delete a service previously furnished by such agencies.

DATES: Comments must be received on or before: August 21, 2022.

ADDRESSES: Committee for Purchase From People Who Are Blind or Severely Disabled, 355 E Street SW, Suite 325, Washington, DC, 20024-3243.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) are proposed for addition to the Procurement List for production by the nonprofit agencies listed:

Product(s)

NSN(s)—Product Name(s):

6515-00-NIB-9762—Gloves, Exam, Powder-Free, Nitrile, Textured, Skyblue, Chemo-tested, Small

6515-00-NIB-9763—Gloves, Exam, Powder-Free, Nitrile, Textured, Skyblue, Chemo-tested, Medium

6515-00-NIB-9764—Gloves, Exam, Powder-Free, Nitrile, Textured, Skyblue, Chemo-tested, Large

6515-00-NIB-9765—Gloves, Exam, Powder-Free, Nitrile, Textured, Skyblue, Chemo-tested, X-Large

Designated Source of Supply: BOSMA Enterprises, Indianapolis, IN

Contracting Activity: DEFENSE LOGISTICS AGENCY, DLA TROOP SUPPORT

Distribution: B-List

Mandatory for: Broad Government Requirement

Deletions

The following service(s) are proposed for deletion from the Procurement List:

Service(s)

Service Type: Transcription Services

Mandatory for: US Army, US Army War College, Carlisle, PA (Offsite: 5590 Derry Street, Harrisburg, PA 17111)

Designated Source of Supply: InspiriTec, Inc., Philadelphia, PA

Contracting Activity: DEPT OF THE ARMY, W6QM MICC-CARLISLE BARRACKS

Michael R. Jurkowski,
Acting Director, Business Operations.

[FR Doc. 2022-15703 Filed 7-21-22; 8:45 am]

BILLING CODE 6353-01-P